DEPARTMENT OF DEFENSE

Office of the Secretary

[Transmittal No. 25-110]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-110, Policy Justification, and Sensitivity of Technology.

Dated: February 4, 2026.
Stephanie J. Bost,
Alternate OSD Federal Register Liaison Officer, Department of Defense.

BILLING CODE 6001-FR-P

BILLING CODE 6001-FR-C

Transmittal No. 25-110

Notice of Proposed Issuance of Letter of Offer Pursuant to Section 36(b)(1) of the Arms Export Control Act, as amended

(i) Prospective Purchaser: Government of India

(ii) Total Estimated Value:

Major Defense Equipment * | $37.1 million
Other | $ 8.6 million
TOTAL | $45.7 million

Funding Source: National Funds

(iii) Description and Quantity or Quantities of Articles or Services Under Consideration for Purchase:

Major Defense Equipment (MDE):

One hundred (100) Javelin FGM-148 rounds

One (1) Javelin FGM-148 missile, fly-to-buy

Twenty-five (25) Javelin Light-Weight Command Launch Units (LwCLU) or Javelin Block 1 Command Launch Units (CLU)

Non-Major Defense Equipment:

The following non-MDE items will also be included: Javelin LwCLU or CLU Basic Skills Trainers; missile simulation rounds; battery coolant unit; interactive electronic technical manual; Javelin operator manuals; lifecycle support; physical security inspection; spare parts; system integration and check out; Security Assistance Management Directorate (SAMD) technical assistance; Tactical Aviation and Ground Munitions (TAGM) Project Office technical assistance; tool kits; training; Block 1 CLU refurbishment services; and other related elements of logistics and program support.

(iv) Military Department: Army (IN-B-UNB)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: November 19, 2025

* as defined in Section 47(6) of the Arms Export Control Act.

POLICY JUSTIFICATION

India—Javelin Missile System

The Government of India has requested to buy one hundred (100) FGM-148 Javelin rounds; one (1) Javelin FGM-148 missile, fly-to-buy; and twenty-five (25) Javelin Lightweight Command Launch Units (LwCLU) or Javelin Block 1 Command Launch Units (CLU). The following non-major defense equipment items will also be included: Javelin LwCLU or CLU Basic Skills Trainers; missile simulation rounds; battery coolant unit; interactive electronic technical manual; Javelin operator manuals; lifecycle support; physical security inspection; spare parts; system integration and check out; Security Assistance Management Directorate (SAMD) technical assistance; Tactical Aviation and Ground Munitions (TAGM) Project Office technical assistance; tool kits; training; Block 1 CLU refurbishment services; and other related elements of logistics and program support. The estimated total cost is $45.7 million.

This proposed sale will support the foreign policy and national security objectives of the United States (U.S.) by helping to strengthen the U.S.-Indian strategic relationship and to improve the security of a major defense partner which continues to be an important force for political stability, peace, and economic progress in the Indo-Pacific and South Asia regions.

The proposed sale will improve India's capability to meet current and future threats, strengthen its homeland defense and deter regional threats. India will have no difficulty absorbing these articles and services into its armed forces.

The proposed sale of this equipment and support will not alter the basic military balance in the region.

The principal contractors will be a RTX Corporation/Lockheed Martin Javelin Joint Venture (JJV) of Orlando, Florida and Tucson, Arizona. At this time, the U.S. Government is not aware of any offset agreement proposed in connection with this potential sale. Any offset agreement will be defined in negotiations between the purchaser and the contractor.

Implementation of this proposed sale will not require the assignment of any additional U.S. Government or contractor representatives to India.

There will be no adverse impact on U.S. defense readiness as a result of this proposed sale.

Transmittal No. 25-110

Notice of Proposed Issuance of Letter of Offer Pursuant to Section 36(b)(1) of the Arms Export Control Act

Annex

Item No. vii

(vii) Sensitivity of Technology:

1. The Javelin Weapon System is a medium-range, man portable, shoulder-launched, fire and forget, anti-tank system for infantry, scouts, and combat engineers. It may also be mounted on a variety of platforms including vehicles, aircraft, and watercraft. The system weighs 43.5 pounds and has a maximum range in excess of 4,500 meters. The system is highly lethal against tanks and other systems with conventional and reactive armors. The system possesses a secondary capability against bunkers.

2. Javelin's key technical feature is the use of fire-and-forget technology, which allows the gunner to fire and immediately relocate or take cover. Additional special features are the top attack and direct fire modes, an advanced tandem warhead and imaging infrared seeker, target lock-on before launch, and soft launch from enclosures or covered fighting positions. The Javelin missile also has a minimum smoke motor thus decreasing the likelihood of its detection on the battlefield.

3. The Javelin Weapon System is comprised of two major tactical components, which are a reusable Light-weight Command Launch Unit (LwCLU) or Command Launch Unit (CLU) and a round contained in a disposable launch tube assembly. The LwCLU or CLU incorporates an integrated day-night sight that provides a target engagement capability in adverse weather and countermeasure environments. The LwCLU or CLU may also be used in a stand-alone mode for battlefield surveillance and target detection. The LwCLU's or CLU's thermal sight is a third generation forward looking infrared sensor. To facilitate initial loading and subsequent updating of software, all on-board missile software is uploaded via the LwCLU or CLU after mating and prior to launch.

4. The Block 1 CLU is the standard variant, offering proven reliability and compatibility with the Javelin missile system. Though the Block 1 CLU is slightly heavier and bulkier than the LwCLU, it is suitable for dismounted operations.

5. The sensitivity is primarily in the software programs which instruct the system how to operate in the presence of countermeasures. The overall hardware is also considered sensitive in that the infrared wavelengths could be useful in attempted countermeasure development.

6. If LwCLUs are unavailable, the U.S. Government will provide Block 1 CLUs.

7. The missile is autonomously guided to the target using an imaging infrared seeker and adaptive correlation tracking algorithms. This allows the gunner to take cover or reload and engage another target after firing a missile. The missile has an advanced tandem warhead and can be used in either the top attack or direct fire modes (for targets undercover). An onboard flight computer guides the missile to the selected target.

8. The highest level of classification of defense articles, components, and services included in this potential sale is SECRET.

9. If a technologically advanced adversary were to obtain knowledge of the specific hardware and software elements, the information could be used to develop countermeasures that might reduce system effectiveness or be used in the development of a system with similar or advanced capabilities.

10. A determination has been made that India can provide substantially the same degree of protection for the sensitive technology being released as the U.S. Government. This proposed sale is necessary in furtherance of the U.S. foreign policy and national security objectives outlined in the Policy Justification.

11. All defense articles and services listed in this transmittal have been authorized for release and export to the Government of India.

[FR Doc. 2026-02394 Filed 2-5-26; 8:45 am]

BILLING CODE 6001-FR-P